ENVIRONMENTAL PROTECTION AGENCY

[FRL-9907-01-OA]

Farm, Ranch, and Rural Communities Advisory Committee (FRRCC); Notice of Charter Renewal

AGENCY: Environmental Protection Agency (EPA).

ACTION: Notice.

Notice is hereby given that the Environmental Protection Agency (EPA) has determined that, in accordance with the provisions of the Federal Advisory Committee Act (FACA), 5 U.S.C. App. 2., the Farm, Ranch, and Rural Communities Advisory Committee (FRRCC) is a necessary committee which is in the public interest. Accordingly, the FRRCC will be renewed for an additional two-year period. The purpose of the FRRCC is to provide advice and recommendations to the EPA Administrator on environmental issues and policies that are of importance to agriculture and rural communities. Inquiries may be directed to Sarah Bittleman, U.S. EPA, (Mail Code 1101A), 1200 Pennsylvania Avenue NW., Washington, DC 20460, or bittleman.sarah@epa.gov.

Dated: January 13, 2014.
Sarah Bittleman,
Agricultural Counselor to the Administrator.

[FR Doc. 2014-04117 Filed 2-24-14; 8:45 am]

BILLING CODE 6560-50-P